DEPARTMENT OF TRANSPORTATION

Federal Highway Administration

Federal Transit Administration

Notice of Limitation on Claims Against a Proposed Transportation Project

AGENCY: Federal Highway Administration (FHWA), Federal Transit Administration (FTA), Department of Transportation (DOT).

ACTION: Notice of limitation on claims for judicial review of actions by FHWA and FTA.

SUMMARY: This notice announces final environmental actions taken by FHWA and FTA that are final within the meaning of Federal transportation law. The actions relate to a proposed transportation project, the Seattle Multimodal Terminal at Colman Dock Project, located in the City of Seattle, Washington. Those actions grant licenses, permits, and approvals for the project.

DATES: By this notice, FHWA and FTA are advising the public of final agency actions subject to 23 U.S.C. 139(l). A claim seeking judicial review of the Federal agency actions announced herein for the listed transportation project will be barred unless the claim is filed on or before May 9, 2016.

FOR FURTHER INFORMATION CONTACT: Lindsey Handel, Urban Area Engineer, FHWA at (360) 753-9550, lindsey.handel@dot.gov; Nancy-Ellen Zusman, Assistant Chief Counsel, Office of Chief Counsel, FTA at (312) 353-2577, nancyellen.zusman@dot.gov; or Terence Plaskon, Environmental Protection Specialist, Office of Environmental Programs, FTA at (202) 366-0442, terence.plaskon@dot.gov. FHWA's Washington Division office is located at 711 South Capitol Way, Suite 501, Olympia, WA 98501. FTA is located at 1200 New Jersey Avenue SE., Washington, DC 20590. FHWA office hours are 8:00 a.m. to 4:00 p.m., p.t., and FTA office hours are from 9:00 a.m. to 5:30 p.m., e.t.. Marsha Tolon, Washington State Department of Transportation (WSDOT), at (206) 805-2866, tolonm@wsdot.wa.gov.

SUPPLEMENTARY INFORMATION: Notice is hereby given that FHWA and FTA have taken final agency actions by issuing a Finding of No Significant Impact (FONSI) for the Seattle Multimodal Terminal at Colman Dock Project in Seattle, Washington.

Federal Lead Agencies: FHWA and FTA.

Project sponsor: WSDOT.

Project description: The proposed project will replace the aging and seismically vulnerable components of the Seattle Ferry Terminal at Colman Dock in order to maintain ferry service in the future. The WSDOT operates the Seattle Ferry Terminal. Colman Dock is located on Pier 52, along the central waterfront of downtown Seattle, Washington. Key elements of the Seattle Ferry Terminal Project include: Replacing and re-configuring the timber trestle portion of the dock; replacing the main terminal building; reconfiguring the dock layout to provide safer and more efficient operations; replacing the vehicle transfer span and the overhead loading structures of Slip 3; maintaining a connection to the Marion Street pedestrian overpass; and replacing the King County-operated passenger-only ferry facility on the southern edge of Colman Dock.

Final agency actions: Determination that there is no use of Section 4(f) resources; Section 106 finding of no adverse effect; project-level air quality conformity; and FONSI, dated November 5, 2015. Supporting documentation: Environmental Assessment (EA) dated April 2, 2014.

The EA and FONSI can be viewed and downloaded from the project Web site at http://www.wsdot.wa.gov/projects/ferries/colmanmultimodalterminal/ or viewed at the Seattle, King County, and Kitsap Public Libraries. This notice applies to all FHWA and FTA decisions on the listed project, as of the issuance date of this notice, and all laws under which such actions were taken, including but not limited to those arising under the following laws, as amended:

1. General: National Environmental Policy Act [42 U.S.C. 4321-4351]; Federal-Aid Highway Act [23 U.S.C. 109]; the Federal transit statutes [49 U.S.C. Chapter 53].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction. The regulations implementing Executive Order 12372 regarding intergovernmental consultation on Federal programs and activities apply to this program.) Nothing in this notice creates a cause of action under these Executive Orders.

This notice does not, however, alter or extend the limitation period for challenges of project decisions subject to previous notices published in the Federal Register.

Authority: 23 U.S.C. 139

Issued on: December 1, 2015.
Daniel M. Mathis,
Division Administrator, FHWA, Olympia, Washington.
Lucy Garliauskas,
Associate Administrator, Planning and Environment, FTA, Washington, DC.

[FR Doc. 2015-31111 Filed 12-9-15; 8:45 am]

BILLING CODE 4910-RY-P